COMMODITY FUTURES TRADING COMMISSION

Sunshine Act Meetings

Time and Date: 11 a.m., Wednesday April 2, 2008.

Place: 1155 21st St., NW., Washington, DC, 9th Floor Commission Conference Room.

Status: Closed.

Matters to be Considered: Risk Surveillance.

CONTACT PERSON FOR MORE INFORMATION: Sauntia S. Warfield, 202-418-5084.

David A. Stawick,
Secretary of the Commission.

[FR Doc. 08-1046 Filed 3-14-08; 11:45 am]

BILLING CODE 6351-01-P